SECURITIES AND EXCHANGE COMMISSION

Proposed Collection; Comment Request

Upon Written Request, Copies Available From: Securities and Exchange Commission, Office of Investor Education and Advocacy, Washington, DC 20549-0213.

Extension: Rule 31; SEC File No. 270-537; OMB Control No. 3235-0597.

Notice is hereby given that pursuant to the Paperwork Reduction Act of 1995 (44 U.S.C. 3501 et seq.), the Securities and Exchange Commission (“Commission”) is soliciting comments on the collection of information summarized below. The Commission plans to submit this existing collection of information to the Office of Management and Budget for extension and approval.

Section 31 of the Securities Exchange Act of 1934 (15 U.S.C. 78ee) (“Exchange Act”) requires the Commission to collect fees and assessments from national securities exchanges and national securities associations (collectively, “self-regulatory organizations” or “SROs”) based on the volume of their securities transactions. To collect the proper amounts, the Commission adopted Rule 31 (17 CFR 240.31) and Form R31 (17 CFR 249.11) under the Exchange Act whereby the SROs must report to the Commission the volume of their securities transaction and the Commission, based on that data, calculates the amount of fees and assessments that the SROs owe pursuant to Section 31. Rule 31 and Form R31 require the SROs to provide this data on a monthly basis.

The Commission estimates that each respondent makes 12 such filings on an annual basis at an average hourly burden of approximately 1.47 hours per response. Currently, there are 16 respondents. However, based on past experience, the Commission is estimating an increase to 18 respondents, including 13 national securities exchanges, two security futures exchanges, and one national securities association subject to the collection of information requirements of Rule 31 and two registered clearing agencies are required to provide certain data in their possession needed by the SROs to complete Form R31. The Commission estimates that the total burden for all 18 respondents is 318 hours (12 filings/respondent per year × 1.47 hours/filing × 18 respondents = 317.52; rounded to 318 hours) per year.

Written comments are invited on: (a) Whether the proposed collection of information is necessary for the proper performance of the functions of the Commission, including whether the information shall have practical utility; (b) the accuracy of the Commission's estimate of the burden of the proposed collection of information; (c) ways to enhance the quality, utility, and clarity of the information to be collected; and (d) ways to minimize the burden of the collection of information on respondents, including through the use of automated collection techniques or other forms of information technology. Consideration will be given to comments and suggestions submitted in writing within 60 days of this publication.

Please direct your written comments to: Charles Boucher, Director/Chief Information Officer, Securities and Exchange Commission, c/o Shirley Martinson, 6432 General Green Way, Alexandria, Virginia, 22312 or by sending an email to: PRA_Mailbox@sec.gov.

Dated: March 2, 2010.
Florence E. Harmon,
Deputy Secretary.

[FR Doc. 2010-4914 Filed 3-8-10; 8:45 am]

BILLING CODE 8011-01-P